DEPARTMENT OF LABOR

Employment and Training Administration

[TA-W-63,976]

Stauble Machine and Tool Co., Inc.: Louisville, KY; Notice of Revised Determination on Reconsideration

On December 10, 2008, the Department issued an Affirmative Determination Regarding Application on Reconsideration applicable to workers and former workers of the subject firm. The notice was published in the Federal Register on December 18, 2008 (73 FR 77064).

The previous investigation initiated on September 3, 2008, resulted in a negative determination issued on November 7, 2008, was based on the finding that imports of metal stamping parts did not contribute importantly to worker separations at the subject firm and no shift in production to a foreign source occurred. The denial notice was published in the Federal Register on November 25, 2008 (73 FR 71696).

On reconsideration, the Department requested an additional list of customers of the subject firm and conducted a customer survey to determine whether imports of metal stamping parts negatively impacted employment at the subject firm.

The survey of the major declining customers revealed that the customers increased imports of metal stamping parts while decreasing purchases from the subject firm during January through August 2008 over the corresponding 2007 period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Stauble Machine and Tool Co., Inc., Louisville, Kentucky, contributed importantly to the declines in sales or production and to the total or partial separation of workers at the subject firm. In accordance with the provisions of the Act, I make the following certification:

All workers of Stauble Machine and Tool Co., Inc., Louisville, Kentucky, who became totally or partially separated from employment on or after September 2, 2007, through two years from the date of this certification, are eligible to apply for adjustment assistance under Section 223 of the Trade Act of 1974, and are eligible to apply for alternative trade adjustment assistance under Section 246 of the Trade Act of 1974.

Signed in Washington, DC this 15th day of January 2009.
Elliott S. Kushner,
Certifying Officer, Division of Trade Adjustment Assistance.

[FR Doc. E9-1494 Filed 1-23-09; 8:45 am]

BILLING CODE 4510-FN-P